OFFICE OF PERSONNEL MANAGEMENT

2002 and 2003 Nonforeign Area Cost-of-Living Allowance Survey Report: Revised Shelter Analyses

AGENCY: Office of Personnel Management.

ACTION: Notice.

SUMMARY: This notice publishes revised shelter (rent) analyses relating to the “2002 Nonforeign Area Cost-of-Living Allowance Survey Report: Caribbean and Washington, DC, Areas” and the “2003 Nonforeign Area Cost-of-Living Allowance Survey Report: Alaska and Washington, DC, Areas.” The Federal Government uses the results of surveys such as these to set cost-of-living allowance (COLA) rates for General Schedule, U.S. Postal Service, and certain other Federal employees in Alaska, Hawaii, Guam and the Northern Mariana Islands, Puerto Rico, and the U.S. Virgin Islands. This notice explains the revised shelter analyses adopted by the Office of Personnel Management based on additional research undertaken after the publication of these two reports.

DATES: Comments on this report must be received on or before October 3, 2005.

ADDRESSES: Send or deliver comments to Donald J. Winstead, Deputy Associate Director for Pay and Performance Policy, Strategic Human Resources Policy Division, Office of Personnel Management, Room 7H31, 1900 E Street, NW., Washington, DC 20415-8200; fax: (202) 606-4264; or e-mail: COLA@opm.gov.

FOR FURTHER INFORMATION CONTACT: Donald L. Paquin, (202) 606-2838; fax: (202) 606-4264; or e-mail: COLA@opm.gov.

SUPPLEMENTARY INFORMATION: Section 591.229 of title 5, Code of Federal Regulations, requires the Office of Personnel Management (OPM) to publish nonforeign area cost-of-living allowance (COLA) survey summary reports in the Federal Register. On February 9, 2004, OPM published the “2002 Nonforeign Area Cost-of-Living Allowance Survey Report: Caribbean and Washington, DC, Areas” at 69 FR 6020. On March 12, 2004, OPM published the “2003 Nonforeign Area Cost-of-Living Allowance Survey Report: Alaska and Washington, DC, Areas” at 69 FR 12002. Since publishing the results of these surveys, OPM has adopted a new methodology for calculating rent indexes. This notice describes the new methodology, the effect on the rent indexes, and the effect on the final indexes.

New Shelter (Rental) Analyses

OPM developed a new methodology for analyzing rental prices in consultation with the Survey Implementation Committee (SIC) and Technical Advisory Committee (TAC). The SIC and the TAC were established pursuant to the settlement of Caraballo, et al. v. United States, No. 1997-0027 (D.V.I.), August 17, 2000. The SIC advises and assists OPM in the implementation of the new COLA methodology to which the parties agreed. The SIC consists of five plaintiffs' representatives from the COLA areas and two OPM representatives. The TAC consists of three economists who have expertise in living-cost measurement. The TAC performs research for and advises the SIC.

As described in the 2002 and 2003 survey reports, OPM hired a contractor, the Center of International and Interarea Comparisons (CIIC), to analyze the housing data and estimate relative rental rates and rental indexes. CIIC is well-known for its work in international price comparisons, and one of its co-directors of research is a member of the TAC. CIIC consulted closely with the TAC and the SIC in analyzing the rental survey results.

As noted in both the 2002 and 2003 survey reports, the TAC recommended that OPM review the issue of which rental equation to use and how to choose among equations as additional rental data become available. OPM agreed to do this. As OPM acquired more rental data and more experience analyzing these data, it became apparent that the hedonic regressions (a form of multiple linear regression) used in the 2002 and 2003 analyses could be improved.

Therefore, in consultation with the SIC and TAC, OPM recomputed the rent indexes for the 2002 Caribbean and 2003 Alaska surveys. Table 1 below shows the new rent indexes. Appendix 1 shows the regression equation in SAS code and the regression results for the 2002 Caribbean survey. (SAS is a proprietary statistical analysis computer software package.) Appendix 2 shows the regression equation in SAS code and the regression results for the 2003 Alaska survey.

Table 1.—Rent Indexes
Area | Previous rent index | New rent index
Puerto Rico | 65.52 | 70.89
St. Croix, USVI | 67.50 | 71.71
St. Thomas/St. John, USVI | 84.22 | 88.63
Anchorage, Alaska | 86.06 | 89.99
Fairbanks, Alaska | 78.84 | 79.96
Juneau, Alaska | 92.91 | 91.68
Washington, DC, Area | *100.00 | *100.00
* By definition, the index of the base area is always 100.00.

New COLA Indexes

Once OPM computed new rent indexes, it became necessary to compute new final overall COLA indexes because these indexes would have changed compared with those OPM published with the 2002 and 2003 survey reports. Table 2 shows the new final indexes. Appendix 3 shows the derivation of the Caribbean final indexes. Appendix 4 shows the derivation of the Alaska final indexes.

Table 2.—Final Living-Cost Indexes
Area | Previous final index | New final index
Puerto Rico | 103.60 | 105.10
U.S. Virgin Islands | 121.44 | 122.84
Anchorage, Alaska | 112.63 | 113.79
Fairbanks, Alaska | 115.26 | 115.61
Juneau, Alaska | 118.34 | 118.03
Rest of the State of Alaska | 134.80 | 136.00

Office of Personnel Management.
Linda M. Springer,
Director.

Appendix 1—2002 Caribbean Survey Hedonic Rental Data Equations and Results

data temp; set opm.dcprvi;

survey_area = ‘XX';

location = substr(compnumber,1,1);

if location = ‘A' then survey_area = ‘SC';

if location = ‘B' then survey_area = ‘ST';

if location = ‘C' then survey_area = ‘PR';

if location = ‘D' then survey_area = ‘DC';

*Q1 yrbuilt;

age = 2002 − yrbuilt;

agesq = age*age;

if age < 0 then delete;

if age ≥ 200 then delete;

sqsqspace = sqfootage*sqfootage;

baths = fullbaths + halfbaths*.5 + threeqtrbaths*.75;

Extrnl_Cond = 0;

if extrcond = ‘A' then Extrnl_Cond = 1; *(Good);

Neighbor_Cond = 0;

if neighcond = ‘A' then Neighbor_Cond = 1; *(Desirable);

hasgarage = 0;

if garage in (‘A' ‘B' ‘C') then hasgarage = 1; *(Yes);

Dup_Apartment = 0;

if unittype in (‘B' ‘C' ‘E' ‘F' ‘H') then Dup_Apartment = 1;

*(Duplex, Triplex, Walkup, In-home, or other apartmnt);

Highrise = 0;

if unittype = ‘G' then Highrise = 1; *(high rise apartment);

Detached_Town = 0;

*if unittype in (‘A' ‘D') then Detached_Town = 1; *(Detached, Townhouse, Row House);

*omitting the above makes it the base condition;

SqftXDup_Apartment = 0;

if unittype in (‘B' ‘C' ‘E' ‘F' ‘H') then SqftXDup_Apartment = sqfootage;

SqftXHighrise = 0;

if unittype = ‘G' then SqftXHighrise = sqfootage;

SqftXDetached_Town = 0;

if unittype in (‘A' ‘D') then SqftXDetached_Town = sqfootage;

sqfootagesq = sqfootage* sqfootage;

hasclothesdryer = 0;

if cldryer = ‘Y' then hasclothesdryer = 1;

hasdishwasher = 0;

if dishwasher = ‘Y' then hasdishwasher = 1;

hasmicrowave = 0;

if microwave = ‘Y' then hasmicrowave = 1;

hassecurity = 0;

if gated = ‘Y' or accessctl = ‘Y' or guards = ‘Y' or alarms = ‘Y' then hassecurity = 1;

ExceptionalView = 0;

If excview = ‘Y' then ExceptionalView = 1;

St_Croix = 0;

if survey_area = ‘SC' then St_Croix = 1;

St_Thomas = 0;

if survey_area = ‘ST' then St_Thomas = 1;

Puerto_Rico = 0;

if survey_area = ‘PR' then Puerto_Rico = 1;

Wash_DC = 0;

*** if survey_area = ‘WA' then Wash_DC = 1—Omitting this makes DC the base area;

lrent = log(rent);

PROC REG DATA = temp;

MODEL lrent = SqftXDup_Apartment SqftXHighrise SqftXDetached_Town

sqfootagesq age agesq baths bedrooms Dup_Apartment Highrise

Neighbor_Cond hasclothesdryer hasdishwasher hasmicrowave

Extrnl_Cond hassecurity ExceptionalView

St_Croix St_Thomas Puerto_Rico;

TITLE ‘2002 Caribbean Rental Data—Revised Rental Analyses Federal Register Model';

RUN;

2002 Caribbean Rental Data—Revised Rental Analyses Federal Register Model
[The REG procedure model: MODEL1 dependent variable: lrent]
Number of Observations Read | 1599
Number of Observations Used | 1599

Analysis of variance: Source | Analysis of variance: DF | Analysis of variance: Sum of squares | Analysis of variance: Mean square | Analysis of variance: F Value | Analysis of variance: Pr > F
Model | 20 | 345.01809 | 17.25090 | 388.32 | <.0001
Error | 1578 | 70.10212 | 0.04442
Corrected Total | 1598 | 415.12021

Root MSE | 0.21077 | R-Square | 0.8311
Dependent Mean | 7.03692 | Adj R-Sq | 0.8290
Coeff Var | 2.99522

Parameter estimates: Variable | Parameter estimates: DF | Parameter estimates: Parameter estimate | Parameter estimates: Standard error | Parameter estimates: t Value | Parameter estimates: Pr > |t|
Intercept | 1 | 6.16053 | 0.07083 | 86.97 | <.0001
SqftXDup_Apartment | 1 | 0.00084714 | 0.00006631 | 12.78 | <.0001
SqftXHighrise | 1 | 0.00067673 | 0.00007716 | 8.77 | <.0001
SqftXDetached_Town | 1 | 0.00061692 | 0.00008334 | 7.40 | <.0001
sqfootagesq | 1 | −1.12749E-7 | 2.245397E-8 | −5.02 | <.0001
age | 1 | −0.00276 | 0.00067933 | −4.06 | <.0001
agesq | 1 | 0.00005451 | 0.00000734 | 7.43 | <.0001
baths | 1 | 0.08207 | 0.01164 | 7.05 | <.0001
BEDROOMS | 1 | 0.05114 | 0.01034 | 4.94 | <.0001
Dup_Apartment | 1 | −0.27875 | 0.05458 | −5.11 | <.0001
Highrise | 1 | −0.15790 | 0.06883 | −2.29 | 0.0219
Neighbor_Cond | 1 | 0.18967 | 0.01468 | 12.92 | <.0001
hasclothesdryer | 1 | 0.06615 | 0.01406 | 4.70 | <.0001
hasdishwasher | 1 | 0.06214 | 0.01718 | 3.62 | 0.0003
hasmicrowave | 1 | 0.07894 | 0.01478 | 5.34 | <.0001
Extrnl_Cond | 1 | 0.09525 | 0.01483 | 6.42 | <.0001
hassecurity | 1 | 0.08359 | 0.01276 | 6.55 | <.0001
ExceptionalView | 1 | 0.08695 | 0.02043 | 4.26 | <.0001
St_Croix | 1 | −0.34634 | 0.02769 | −12.51 | <.0001
St_Thomas | 1 | −0.13415 | 0.02694 | −4.98 | <.0001
Puerto_Rico | 1 | −0.35453 | 0.02086 | −16.99 | <.0001

Appendix 2—2003 Alaska Survey Hedonic Rental Data Equations and Results

data temp; set OPM.ak_dc_2003_w_census;

survey_area = ‘XX';

location = substr(compnumber,1,1);

if location = ‘A' then survey_area = ‘JU';

if location = ‘B' then survey_area = ‘FB';

if location = ‘C' then survey_area = ‘AN';

if location = ‘D' then survey_area = ‘DC';

*Q1 yrbuilt;

age = 2003−yrbuilt;

agesq = age*age;

sqsqspace = sqfootage*sqfootage;

baths = fullbaths + halfbaths*.5 + threeqtrbaths*.75;

Neighbor_Cond = 0;

if neighcond = ‘A' then Neighbor_Cond = 1; *(Desirable);

hasgarage = 0;

if garage in (‘A' ‘B' ‘C') then hasgarage = 1; *(Yes);

Dup_Triplex = 0;

if unittype in (‘B' ‘C') then Dup_Triplex = 1; *(Duplex or Triplex);

Non_Highrise = 0;

if unittype in (‘E' ‘F' ‘H') then Non_Highrise = 1; *(Walkup, In-home, or other apartmnt);

Highrise = 0;

if unittype = ‘G' then Highrise = 1; *(high rise apartment);

Detached_Town = 0;

*if unittype in (‘A' ‘D') then Detached_Town = 1; *(Detached, Townhouse, Row House);

*omitting the above makes it the base condition;

SqftXDup_Triplex = 0;

if unittype in (‘B' ‘C') then SqftXDup_Triplex = sqfootage;

SqftXNon_Highrise = 0;

if unittype in (‘E' ‘F' ‘H') then SqftXNon_Highrise = sqfootage;

SqftXHighrise = 0;

if unittype = ‘G' then SqftXHighrise = sqfootage;

SqftXDetached_Town = 0;

if unittype in (‘A' ‘D') then SqftXDetached_Town = sqfootage;

hasclothesdryer = 0;

if cldryer = ‘Y' then hasclothesdryer = 1;

hasfireplace = 0;

if fireplace =‘Y' then hasfireplace = 1;

medianincomesq = medianincome*medianincome;

Anchorage = 0;

if survey_area = ‘AN' then Anchorage = 1;

Fairbanks = 0;

if survey_area = ‘FB' then Fairbanks = 1;

Juneau = 0;

if survey_area = ‘JU' then Juneau = 1;

Wash_DC = 0;

*** if survey_area = ‘WA' then Wash_DC = 1—Omitting this makes DC the base area; lrent = log(rent);

PROC REG DATA = temp;

MODEL lrent = SqftXDup_Triplex SqftXNon_Highrise

SqftXHighrise SqftXDetached_Town

age agesq baths bedrooms Dup_Triplex Non_Highrise Highrise Neighbor_Cond hasgarage hasclothesdryer

hasfireplace medianincome medianincomesq PctallBA_

PctSchoolAge

Anchorage Fairbanks Juneau;

TITLE ‘2003 Alaskan Rental Data—Revised Rental Analyses Federal Register Model';

RUN;

2003 Alaskan Rental Data—Revised Rental Analyses Federal Register Model
The REG procedure model: MODEL1 dependent variable: lrent]
Number of Observations Read | 1679
Number of Observations Used | 1679

Analysis of variance: Source | Analysis of variance: DF | Analysis of variance: Sum of squares | Analysis of variance: Mean square | Analysis of variance: F Value | Analysis of variance: Pr > F
Model | 22 | 216.72733 | 9.85124 | 393.42 | <.0001
Error | 1656 | 41.46655 | 0.02504
Corrected Total | 1678 | 258.19388

Root MSE | 0.15824 | R-Square | 0.8394
Dependent Mean | 7.06679 | Adj R-Sq | 0.8373
Coeff Var | 2.23922

Variable | DF | Parameter estimate | Standard error | t Value | Pr > |t |
Intercept | 1 | 6.78428 | 0.04463 | 152.01 | <.0001
SqftXDup_Triplex | 1 | 0.00012656 | 0.00003471 | 3.65 | 0.0003
SqftXNon_Highrise | 1 | 0.00026632 | 0.00003630 | 7.34 | <.0001
SqftXHighrise | 1 | 0.00022895 | 0.00004467 | 5.13 | <.0001
SqftXDetached_Town | 1 | 0.00008622 | 0.00001571 | 5.49 | <.0001
age | 1 | −0.00426 | 0.00067976 | −6.27 | <.0001
agesq | 1 | 0.00005692 | 0.00000816 | 6.97 | <.0001
baths | 1 | 0.02324 | 0.00582 | 3.99 | <.0001
BEDROOMS | 1 | 0.12778 | 0.00743 | 17.19 | <.0001
Dup_Triplex | 1 | −0.08525 | 0.04928 | −1.73 | 0.0839
Non_Highrise | 1 | −0.31060 | 0.03842 | −8.09 | <.0001
Highrise | 1 | −0.17676 | 0.04867 | −3.63 | 0.0003
Neighbor_Cond | 1 | 0.25807 | 0.03958 | 6.52 | <.0001
hasgarage | 1 | 0.11484 | 0.01101 | 10.44 | <.0001
hasclothesdryer | 1 | 0.05904 | 0.00883 | 6.69 | <.0001
hasfireplace | 1 | 0.05504 | 0.01017 | 5.41 | <.0001
MedianIncome | 1 | −0.00000242 | 8.194014E-7 | −2.96 | 0.0031
medianincomesq | 1 | 2.2724E-11 | 4.80424E-12 | 4.73 | <.0001
PCTAllBA_ | 1 | 0.39214 | 0.04673 | 8.39 | <.0001
PctSchoolAge | 1 | −0.71293 | 0.11164 | −6.39 | <.0001
Anchorage | 1 | −0.11428 | 0.01195 | −9.56 | <.0001
Fairbanks | 1 | −0.22871 | 0.01345 | −17.01 | <.0001
Juneau | 1 | −0.09632 | 0.01719 | −5.60 | <.0001

Appendix 3.—2002 Final Living-Cost Results for the Caribbean Cola Areas
Major expenditure group (MEG) | Primary expenditure group (PEG) | MEG weight (percent) | PEG weight (percent) | PEG index | MEG index
PUERTO RICO
1. Food |  | 13.16 |  |  | 101.85
| Cereals and bakery products | 0.98 | 7.45 | 105.91 |
| Meats, poultry, fish, and eggs | 1.47 | 11.16 | 99.40 |
| Dairy products | 0.65 | 4.94 | 124.86 |
| Fruits and vegetables | 0.73 | 5.56 | 107.05 |
| Processed Foods | 1.54 | 11.68 | 106.42 |
| Other food at home | 0.42 | 3.16 | 92.62 |
| Nonalcoholic beverages | 0.49 | 3.74 | 133.21 |
| Food away from home | 5.93 | 45.04 | 91.91 |
| Alcoholic beverages | 0.96 | 7.28 | 123.96 |
| PEG Total |  | 100.00 |  |
2. Shelter and Utilities |  | 31.30 |  |  | 85.20
| Shelter | 28.07 | 89.67 | 71.88 |
| Energy Utilities | 2.65 | 8.46 | 236.07 |
| Water and other public services | 0.59 | 1.87 | 41.54 |
| PEG Total |  | 100.00 |  |
3. Household Furnishings and Supplies |  | 6.06 |  |  | 98.84
| Household operations | 1.36 | 22.51 | 64.95 |
| Housekeeping supplies | 1.06 | 17.53 | 113.20 |
| Textiles and Area Rugs | 0.25 | 4.16 | 93.40 |
| Furniture | 1.05 | 17.39 | 95.70 |
| Major appliances | 0.37 | 6.03 | 116.32 |
| Small appliances, misc. housewares | 0.21 | 3.46 | 108.32 |
| Miscellaneous household equipment | 1.75 | 28.91 | 114.40 |
| PEG Total |  | 100.00 |  |
4. Apparel and services |  | 4.00 |  |  | 112.80
| Men and boys | 0.75 | 18.69 | 107.05 |
| Women and girls | 1.67 | 41.66 | 114.32 |
| Children under 2 | 0.18 | 4.55 | 103.86 |
| Footwear | 0.70 | 17.48 | 88.96 |
| Other apparel products and services | 0.71 | 17.63 | 141.24 |
| PEG Total |  | 100.00 |  |
5. Transportation |  | 16.93 |  |  | 107.51
| Motor Vehicle Costs | 9.09 | 53.67 | 109.17 |
| Gasoline and motor oil | 2.71 | 16.02 | 84.24 |
| Maintenance and repairs | 1.81 | 10.72 | 94.31 |
| Vehicle insurance | 1.73 | 10.24 | 122.13 |
| Public transportation | 1.58 | 9.35 | 136.92 |
| PEG Total |  | 100.00 |  |
6. Medical |  | 4.44 |  |  | 73.31
| Health insurance | 2.08 | 46.97 | 59.73 |
| Medical services | 1.43 | 32.31 | 72.76 |
| Drugs and medical Supplies | 0.92 | 20.72 | 104.93 |
| PEG Total |  | 100.00 |  |
7. Recreation |  | 6.23 |  |  | 102.99
| Fees and admissions | 1.46 | 23.38 | 95.96 |
| Television, radios, sound equipment | 0.77 | 12.38 | 115.85 |
| Pets, toys, & playground equipment | 1.15 | 18.48 | 98.43 |
| Other entertainment supplies, etc. | 0.97 | 15.57 | 106.71 |
| Personal care products | 0.69 | 11.10 | 98.89 |
| Personal care services | 0.70 | 11.29 | 105.17 |
| Reading | 0.49 | 7.80 | 109.76 |
| PEG Total |  | 100.00 |  |
8. Education and Communication |  | 4.09 |  | 132.89 |
| Education | 0.21 | 5.06 | 216.35 |
| Communications | 3.24 | 79.32 | 132.97 |
| Computers and Computer Services | 0.64 | 15.62 | 105.41 |
| PEG Total |  | 100.00 |  |
9. Miscellaneous |  | 13.79 |  |  | 103.10
| Tobacco products, etc. | 0.48 | 3.51 | 87.91 |
| Miscellaneous | 2.09 | 15.12 | 123.28 |
| Personal insurance and pensions | 11.22 | 81.37 | 100.00 |
| PEG Total |  | 100.00 |  |
Overall Price Index | MEG Total | 100.00 |  |  | 98.10
Plus Adjustment Factor |  |  |  |  | 7.00
Index Plus Adjustment Factor |  |  |  |  | 105.10
ST. CROIX, U.S. VIRGIN ISLANDS
1. Food |  | 13.16 |  |  | 116.05
| Cereals and bakery products | 0.98 | 7.45 | 129.89 |
| Meats, poultry, fish, and eggs | 1.47 | 11.16 | 129.25 |
| Dairy products | 0.65 | 4.94 | 155.69 |
| Fruits and vegetables | 0.73 | 5.56 | 108.80 |
| Processed foods | 1.54 | 11.68 | 128.02 |
| Other food at home | 0.42 | 3.16 | 108.01 |
| Nonalcoholic beverages | 0.49 | 3.74 | 132.85 |
| Food away from home | 5.93 | 45.04 | 105.82 |
| Alcoholic beverages | 0.96 | 7.28 | 99.25 |
| PEG Total |  | 100.00 |  |
2. Shelter and Utilities | 31.30 |  |  |  | 100.75
| Shelter | 28.07 | 89.67 | 75.16 |
| Energy utilities | 2.65 | 8.46 | 343.31 |
| Water and other public services | 0.59 | 1.87 | 230.60 |
| PEG Total |  | 100.00 |  |
3. Household Furnishings and Supplies |  | 6.06 |  |  | 126.20
| Household operations | 1.36 | 22.51 | 58.68 |
| Housekeeping supplies | 1.06 | 17.53 | 138.03 |
| Textiles and area rugs | 0.25 | 4.16 | 98.61 |
| Furniture | 1.05 | 17.39 | 141.31 |
| Major appliances | 0.37 | 6.03 | 127.13 |
| Small appliances, misc. housewares | 0.21 | 3.46 | 101.87 |
| Miscellaneous household equipment | 1.75 | 28.91 | 169.19 |
| PEG Total |  | 100.00 |  |
4. Apparel and Services |  | 4.00 |  |  | 102.52
| Men and boys | 0.75 | 18.69 | 115.94 |
| Women and girls | 1.67 | 41.66 | 98.51 |
| Children under 2 | 0.18 | 4.55 | 83.57 |
| Footwear | 0.70 | 17.48 | 97.20 |
| Other apparel products and services | 0.71 | 17.63 | 107.95 |
| PEG Total |  | 100.00 |  |
5. Transportation |  | 16.93 |  |  | 111.02
| Motor vehicle costs | 9.09 | 53.67 | 112.02 |
| Gasoline and motor oil | 2.71 | 16.02 | 73.46 |
| Maintenance and repairs | 1.81 | 10.72 | 88.94 |
| Vehicle insurance | 1.73 | 10.24 | 119.53 |
| Public transportation | 1.58 | 9.35 | 185.59 |
| PEG Total |  | 100.00 |  |
6. Medical |  | 4.44 |  |  | 102.17
| Health insurance | 2.08 | 46.97 | 110.99 |
| Medical services | 1.43 | 32.31 | 83.05 |
| Drugs and medical supplies | 0.92 | 20.72 | 111.99 |
| PEG Total |  |  | 100.00 |
7. Recreation |  | 6.23 |  |  | 107.72
| Fees and admissions | 1.46 | 23.38 | 85.81 |
| Television, radios, sound equipment | 0.77 | 12.38 | 94.05 |
| Pets, toys & playground equipment | 1.15 | 18.48 | 124.46 |
| Other entertainment supplies, etc | 0.97 | 15.57 | 118.42 |
| Personal care products | 0.69 | 11.10 | 120.92 |
| Personal care services | 0.70 | 11.29 | 107.77 |
| Reading | 0.49 | 7.80 | 115.28 |
| PEG Total |  | 100.00 |  |
8. Education and Communication |  | 4.09 |  |  | 173.59
| Education | 0.21 | 5.06 | 268.97 |
| Communications | 3.24 | 79.32 | 180.93 |
| Computers and computer services | 0.64 | 15.62 | 105.41 |
| PEG Total |  | 100.00 |  |
9. Miscellaneous |  | 13.79 |  |  | 105.08
| Tobacco products, etc | 0.48 | 3.51 | 52.54 |
| Miscellaneous | 2.09 | 15.12 | 144.64 |
| Personal insurance and pensions | 11.22 | 81.37 | 100.00 |
| PEG Total |  |  |  |
ST. THOMAS, U.S. VIRGIN ISLANDS
1. Food |  | 13.16% |  |  | 118.86
| Cereals and bakery products | 0.98 | 7.45 | 135.94 |
| Meats, poultry, fish, and eggs | 1.47 | 11.16 | 133.18 |
| Dairy products | 0.65 | 4.94 | 161.42 |
| Fruits and vegetables | 0.73 | 5.56 | 120.34 |
| Processed foods | 1.54 | 11.68 | 139.00 |
| Other food at home | 0.42 | 3.16 | 115.51 |
| Nonalcoholic beverages | 0.49 | 3.74 | 139.29 |
| Food away from home | 5.93 | 45.04 | 104.61 |
| Alcoholic beverages | 0.96 | 7.28 | 96.20 |
| PEG Total |  | 100.00 |  |
2. Shelter and Utilities |  | 31.30 |  |  | 116.23
| Shelter | 28.07 | 89.67 | 92.42 |
| Energy utilities | 2.65 | 8.46 | 343.31 |
| Water and other public services | 0.59 | 1.87 | 230.60 |
| PEG Total |  | 100.00 |  |
3. Household Furnishings and Supplies |  | 6.06 |  |  | 126.12
| Household operations | 1.36 | 22.51 | 63.82 |
| Housekeeping supplies | 1.06 | 17.53 | 137.67 |
| Textiles and area rugs | 0.25 | 4.16 | 117.63 |
| Furniture | 1.05 | 17.39 | 141.31 |
| Major appliances | 0.37 | 6.03 | 121.04 |
| Small appliances, misc. housewares | 0.21 | 3.46 | 102.41 |
| Miscellaneous household equipment | 1.75 | 28.91 | 163.62 |
| PEG Total |  | 100.00 |  |
4. Apparel and Services |  | 4.00 |  |  | 101.14
| Men and boys | 0.75 | 18.69 | 102.33 |
| Women and girls | 1.67 | 41.66 | 97.41 |
| Children under 2 | 0.18 | 4.55 | 83.57 |
| Footwear | 0.70 | 17.48 | 99.03 |
| Other apparel products and services | 0.71 | 17.63 | 115.33 |
| PEG Total |  | 100.00 |  |
5. Transportation |  | 16.93 |  |  | 119.49
| Motor vehicle costs | 9.09 | 53.67 | 111.91 |
| Gasoline and motor oil | 2.71 | 16.02 | 122.52 |
| Maintenance and repairs | 1.81 | 10.72 | 80.37 |
| Vehicle insurance | 1.73 | 10.24 | 119.53 |
| Public transportation | 1.58 | 9.35 | 202.62 |
| PEG Total |  | 100.00 |  |
6. Medical |  | 4.44 |  |  | 114.18
| Health insurance | 2.08 | 46.97 | 110.99 |
| Medical services | 1.43 | 32.31 | 121.45 |
| Drugs and medical supplies | 0.92 | 20.72 | 110.08 |
| PEG Total |  | 100.00 |  |
7. Recreation |  | 6.23 |  |  | 106.38
| Fees and admissions | 1.46 | 23.38 | 58.55 |
| Television, radios, sound equipment | 0.77 | 12.38 | 104.26 |
| Pets, toys & playground equipment | 1.15 | 18.48 | 132.35 |
| Other entertainment supplies, etc | 0.97 | 15.57 | 130.73 |
| Personal care products | 0.69 | 11.10 | 113.14 |
| Personal care services | 0.70 | 11.29 | 116.88 |
| Reading | 0.49 | 7.80 | 118.17 |
| PEG Total |  | 100.00 |  |
8. Education and Communication |  | 4.09 |  |  | 168.47
| Education | 0.21 | 5.06 | 188.50 |
| Communications | 3.24 | 79.32 | 179.61 |
| Computers and computer services | 0.64 | 15.62 | 105.41 |
| PEG Total |  | 100.00 |  |
9. Miscellaneous |  | 13.79 |  |  | 102.87
| Tobacco products, etc. | 0.48 | 3.51 | 60.63 |
| Miscellaneous | 2.09 | 15.12 | 128.10 |
| Personal insurance and pensions | 11.22 | 81.37 | 100.00 |
| PEG Total |  |  |  |

Appendix 3.—2002 Final Living-Cost Results for the Caribbean Cola Areas
Major expenditure group (MEG) | Primary expenditure group (PEG) | St. Croix index (percent) | St. Thomas/St. John indexes (percent) | U.S. Virgin Island wtd index
U.S. VIRGIN ISLANDS
Employment Weights |  | 44.0 | 56.0 |
1. Food |  | 116.05 | 118.86 | 117.62
| Cereals and bakery products | 129.89 | 135.94 | 133.28
| Meats, poultry, fish, and eggs | 129.25 | 133.18 | 131.45
| Dairy products | 155.69 | 161.42 | 158.90
| Fruits and vegetables | 108.80 | 120.34 | 115.26
| Processed foods | 128.02 | 139.00 | 134.17
| Other food at home | 108.01 | 115.51 | 112.21
| Nonalcoholic beverages | 132.85 | 139.29 | 136.45
| Food away from home | 105.82 | 104.61 | 105.14
| Alcoholic beverages | 99.25 | 96.20 | 97.54
2. Shelter and Utilities |  | 100.75 | 116.23 | 109.42
| Shelter | 75.16 | 92.42 | 84.82
| Energy utilities | 343.31 | 343.31 | 343.31
| Water and other public services | 230.60 | 230.60 | 230.60
3. Household Furnishings and Supplies |  | 126.20 | 126.12 | 126.15
| Household operations | 58.68 | 63.82 | 61.56
| Housekeeping supplies | 138.03 | 137.67 | 137.83
| Textiles and area rugs | 98.61 | 117.63 | 109.26
| Furniture | 141.31 | 141.31 | 141.31
| Major appliances | 127.13 | 121.04 | 123.72
| Small appliances, misc. housewares | 101.87 | 102.41 | 102.17
| Miscellaneous household equipment | 169.19 | 163.62 | 166.07
4. Apparel and Services |  | 102.52 | 101.14 | 101.75
| Men and boys | 115.94 | 102.33 | 108.32
| Women and girls | 98.51 | 97.41 | 97.89
| Children under 2 | 83.57 | 83.57 | 83.57
| Footwear | 97.20 | 99.03 | 98.23
| Other apparel products and services | 107.95 | 115.33 | 112.08
5. Transportation |  | 111.02 | 119.49 | 115.76
| Motor vehicle costs | 112.02 | 111.91 | 111.96
| Gasoline and motor oil | 73.46 | 122.52 | 100.93
| Maintenance and repairs | 88.94 | 80.37 | 84.14
| Vehicle insurance | 119.53 | 119.53 | 119.53
| Public transportation | 185.59 | 202.62 | 195.13
6. Medical |  | 102.17 | 114.18 | 108.90
| Health insurance | 110.99 | 110.99 | 110.99
| Medical services | 83.05 | 121.45 | 104.56
| Drugs and medical supplies | 111.99 | 110.08 | 110.92
7. Recreation |  | 107.72 | 106.38 | 106.97
| Fees and admissions | 85.81 | 58.55 | 70.55
| Television, radios, sound equipment | 94.05 | 104.26 | 99.77
| Pets, toys & playground equipment | 124.46 | 132.35 | 128.88
| Other entertainment supplies, etc | 118.42 | 130.73 | 125.31
| Personal care products | 120.92 | 113.14 | 116.56
| Personal care services | 107.77 | 116.88 | 112.87
| Reading | 115.28 | 118.17 | 116.90
8. Education and Communication |  | 173.59 | 168.47 | 170.72
| Education | 268.97 | 188.50 | 223.91
| Communications | 180.93 | 179.61 | 180.19
| Computers and computer services | 105.41 | 105.41 | 105.41
9. Miscellaneous |  | 105.08 | 102.87 | 103.84
| Tobacco products, etc. | 52.54 | 60.63 | 57.07
| Miscellaneous | 144.64 | 128.10 | 135.38
| Personal insurance and pensions | 100.00 | 100.00 | 100.00
Overall Price Index |  |  |  | 113.84
Plus Adjustment Factor |  |  |  | 9.00
Preliminary COLA Rate |  |  |  | 122.84

Appendix 4.—2003 Final Living-Cost Results for the Alaska Cola Areas
Major expenditure group (MEG) | Primary expenditure group (PEG) | MEG weight (percent) | PEG weight (percent) | PEG index | MEG index
ANCHORAGE, ALASKA
1. Food |  | 12.30 |  |  | 114.58
| Cereals and bakery products | 0.93 | 7.60 | 117.91 |
| Meats, poultry, fish, and eggs | 1.40 | 11.40 | 108.37 |
| Dairy products | 0.64 | 5.24 | 127.58 |
| Fruits and vegetables | 0.71 | 5.79 | 169.90 |
| Processed foods | 1.48 | 12.04 | 113.79 |
| Other food at home | 0.37 | 3.05 | 115.41 |
| Nonalcoholic beverages | 0.47 | 3.85 | 142.08 |
| Food away from home | 5.41 | 44.02 | 104.21 |
| Alcoholic beverages | 0.86 | 7.01 | 116.68 |
| PEG Total |  | 100.00 |  |
2. Shelter and Utilities |  | 33.18 |  |  | 102.42
| Shelter | 29.44 | 88.74 | 90.65 |
| Energy utilities | 3.05 | 9.20 | 212.43 |
| Water and other public services | 0.68 | 2.06 | 118.15 |
| PEG Total |  | 100.00 |  |
3. Household Furnishings and Supplies |  | 6.07 |  |  | 105.32
| Household operations | 1.53 | 25.20 | 102.92 |
| Housekeeping supplies | 1.05 | 17.31 | 103.97 |
| Textiles and area rugs | 0.29 | 4.76 | 102.25 |
| Furniture | 1.15 | 18.94 | 104.57 |
| Major appliances | 0.38 | 6.24 | 110.38 |
| Small appliances, misc. housewares | 0.20 | 3.24 | 114.16 |
| Misc. household equipment | 1.47 | 24.30 | 107.47 |
| PEG Total |  | 100.00 |  |
4. Apparel and Services |  | 4.01 |  |  | 109.63
| Men and boys | 0.90 | 22.43 | 118.23 |
| Women and girls | 1.58 | 39.55 | 112.12 |
| Children under 2 | 0.18 | 4.60 | 90.70 |
| Footwear | 0.67 | 16.75 | 98.83 |
| Other apparel products and services | 0.67 | 16.68 | 108.24 |
| PEG Total |  | 100.00 |  |
5. Transportation |  | 16.35 |  |  | 112.30
| Motor vehicle costs | 8.57 | 52.43 | 102.17 |
| Gasoline and motor oil | 2.87 | 17.58 | 107.36 |
| Maintenance and repairs | 1.69 | 10.32 | 101.97 |
| Vehicle insurance | 1.79 | 10.92 | 135.96 |
| Public transportation | 1.43 | 8.76 | 165.59 |
| PEG Total |  | 100.00 |  |
6. Medical |  | 4.75 |  |  | 111.51
| Health insurance | 2.28 | 47.95 | 113.65 |
| Medical services | 1.55 | 32.53 | 118.98 |
| Drugs and medical supplies | 0.93 | 19.52 | 93.78 |
| PEG Total |  | 100.00 |  |
7. Recreation |  | 7.02 |  |  | 97.64
| Fees and admissions | 1.46 | 20.77 | 92.96 |
| Television, radios, sound equipment | 0.73 | 10.36 | 100.15 |
| Pets, toys, & playground equipment | 1.04 | 14.84 | 104.07 |
| Other entertainment supplies, etc. | 2.02 | 28.81 | 101.48 |
| Personal care products | 0.82 | 11.62 | 86.00 |
| Personal care services | 0.56 | 7.90 | 88.08 |
| Reading | 0.40 | 5.70 | 110.95 |
| PEG Total |  | 100.00 |  |
8. Education and Communication |  | 4.05 |  |  | 100.37
| Education | 0.18 | 4.42 | 29.67 |
| Communications | 3.37 | 83.30 | 104.60 |
| Computers and computer services | 0.50 | 12.29 | 97.09 |
| PEG Total |  | 100.00 |  |
9. Miscellaneous |  | 12.28 |  |  | 108.78
| Tobacco products, etc | 0.46 | 3.75 | 108.17 |
| Miscellaneous | 1.83 | 14.89 | 156.88 |
| Personal insurance and pensions | 9.99 | 81.35 | 100.00 |
| PEG Total |  | 100.00 |  |
Overall Price Index | MEG Total | 100.00 |  |  | 106.79
Plus Adjustment Factor |  |  |  |  | 7.00
Index Plus Adjustment Factor |  |  |  |  | 113.79
FAIRBANKS, ALASKA
1. Food |  | 12.30 |  |  | 116.25
| Cereals and bakery products | 0.93 | 7.60 | 124.89 |
| Meats, poultry, fish, and eggs | 1.40 | 11.40 | 111.48 |
| Dairy products | 0.64 | 5.24 | 115.91 |
| Fruits and vegetables | 0.71 | 5.79 | 169.40 |
| Processed foods | 1.48 | 12.04 | 120.63 |
| Other food at home | 0.37 | 3.05 | 114.36 |
| Nonalcoholic beverages | 0.47 | 3.85 | 152.88 |
| Food away from home | 5.41 | 44.02 | 103.08 |
| Alcoholic beverages | 0.86 | 7.01 | 126.87 |
| PEG Total |  | 100.00 |  |
2. Shelter and Utilities |  | 33.18 |  |  | 99.91
| Shelter | 29.44 | 88.74 | 80.87 |
| Energy utilities | 3.05 | 9.20 | 270.97 |
| Water and other public services | 0.68 | 2.06 | 155.96 |
| PEG Total |  | 100.00 |  |
3. Household Furnishings and Supplies |  | 6.07 |  |  | 109.56
| Household operations | 1.53 | 25.20 | 99.74 |
| Housekeeping supplies | 1.05 | 17.31 | 115.45 |
| Textiles and area rugs | 0.29 | 4.76 | 103.65 |
| Furniture | 1.15 | 18.94 | 104.57 |
| Major appliances | 0.38 | 6.24 | 126.17 |
| Small appliances, misc. housewares | 0.20 | 3.24 | 125.61 |
| Misc. household equipment | 1.47 | 24.30 | 114.19 |
| PEG Total |  | 100.00 |  |
4. Apparel and Services |  | 4.01 |  |  | 106.64
| Men and boys | 0.90 | 22.43 | 103.68 |
| Women and girls | 1.58 | 39.55 | 104.53 |
| Children under 2 | 0.18 | 4.60 | 89.89 |
| Footwear | 0.67 | 16.75 | 93.82 |
| Other apparel products and services | 0.67 | 16.68 | 133.11 |
| PEG Total |  | 100.00 |  |
5. Transportation |  | 16.35 |  |  | 112.50
| Motor vehicle costs | 8.57 | 52.43 | 101.33 |
| Gasoline and motor oil | 2.87 | 17.58 | 106.31 |
| Maintenance and repairs | 1.69 | 10.32 | 95.57 |
| Vehicle insurance | 1.79 | 10.92 | 130.80 |
| Public transportation | 1.43 | 8.76 | 188.94 |
| PEG Total |  | 100.00 |  |
6. Medical |  | 4.75 |  |  | 112.34
| Health insurance | 2.28 | 47.95 | 111.83 |
| Medical services | 1.55 | 32.53 | 123.13 |
| Drugs and medical supplies | 0.93 | 19.52 | 95.63 |
| PEG Total |  | 100.00 |  |
7. Recreation |  | 7.02 |  |  | 97.66
| Fees and admissions | 1.46 | 20.77 | 92.48 |
| Television, radios, sound equipment | 0.73 | 10.36 | 99.46 |
| Pets, toys, & playground equipment | 1.04 | 14.84 | 108.08 |
| Other entertainment supplies etc. | 2.02 | 28.81 | 106.80 |
| Personal care products | 0.82 | 11.62 | 83.46 |
| Personal care services | 0.56 | 7.90 | 60.47 |
| Reading | 0.40 | 5.70 | 120.53 |
| PEG Total |  | 100.00 |  |
8. Education and Communication |  | 4.05 |  |  | 101.90
| Education | 0.18 | 4.42 | 13.84 |
| Communications | 3.37 | 83.30 | 107.28 |
| Computers and computer services | 0.50 | 12.29 | 97.09 |
| PEG Total |  | 100.00 |  |
9. Miscellaneous |  | 12.28 |  |  | 110.23
| Tobacco products, etc. | 0.46 | 3.75 | 107.12 |
| Miscellaneous | 1.83 | 14.89 | 166.87 |
| Personal insurance and pensions | 9.99 | 81.35 | 100.00 |
| PEG Total |  | 100.00 |  |
Overall Price Index | MEG Total | 100.00 |  |  | 106.61
Plus Adjustment Factor |  |  |  |  | 9.00
Index Plus Adjustment Factor |  |  |  |  | 115.61
JUNEAU, ALASKA
1. Food |  | 12.30 |  |  | 121.13
| Cereals and bakery products | 0.93 | 7.60 | 122.40 |
| Meats, poultry, fish, and eggs | 1.40 | 11.40 | 116.44 |
| Dairy products | 0.64 | 5.24 | 129.04 |
| Fruits and vegetables | 0.71 | 5.79 | 168.34 |
| Processed foods | 1.48 | 12.04 | 119.04 |
| Other food at home | 0.37 | 3.05 | 118.10 |
| Nonalcoholic beverages | 0.47 | 3.85 | 171.62 |
| Food away from home | 5.41 | 44.02 | 112.67 |
| Alcoholic beverages | 0.86 | 7.01 | 112.77 |
| PEG Total |  | 100.00 |  |
2. Shelter and Utilities |  | 33.18 |  |  | 105.77
| Shelter | 29.44 | 88.74 | 92.06 |
| Energy utilities | 3.05 | 9.20 | 236.45 |
| Water and other public services | 0.68 | 2.06 | 112.61 |
| PEG Total |  | 100.00 |  |
3. Household Furnishings and Supplies |  | 6.07 |  |  | 111.16
| Household operations | 1.53 | 25.20 | 104.07 |
| Housekeeping supplies | 1.05 | 17.31 | 118.21 |
| Textiles and area rugs | 0.29 | 4.76 | 108.66 |
| Furniture | 1.15 | 18.94 | 108.67 |
| Major appliances | 0.38 | 6.24 | 121.35 |
| Small appliances, misc. housewares | 0.20 | 3.24 | 104.19 |
| Misc. household equipment | 1.47 | 24.30 | 114.25 |
| PEG Total |  | 100.00 |  |
4. Apparel and Services |  | 4.01 |  |  | 105.13
| Men and boys | 0.90 | 22.43 | 111.43 |
| Women and girls | 1.58 | 39.55 | 100.69 |
| Children under 2 | 0.18 | 4.60 | 88.83 |
| Footwear | 0.67 | 16.75 | 106.39 |
| Other apparel products and services | 0.67 | 16.68 | 110.38 |
| PEG Total |  | 100.00 |  |
Transportation |  | 16.35 |  |  | 107.08
| Motor vehicle costs | 8.57 | 52.43 | 98.27 |
| Gasoline and motor oil | 2.87 | 17.58 | 115.15 |
| Maintenance and repairs | 1.69 | 10.32 | 99.87 |
| Vehicle insurance | 1.79 | 10.92 | 92.71 |
| Public transportation | 1.43 | 8.76 | 170.09 |
| PEG Total |  | 100.00 |  |
6. Medical |  | 4.75 |  |  | 113.18
| Health insurance | 2.28 | 47.95 | 111.91 |
| Medical services | 1.55 | 32.53 | 123.47 |
| Drugs and medical supplies | 0.93 | 19.52 | 99.14 |
| PEG Total |  | 100.00 |  |
7. Recreation |  | 7.02 |  |  | 109.42
| Fees and admissions | 1.46 | 20.77 | 99.88 |
| Television, radios, sound equipment | 0.73 | 10.36 | 105.97 |
| Pets, toys, & playground equipment | 1.04 | 14.84 | 107.48 |
| Other entertainment supplies, etc. | 2.02 | 28.81 | 112.91 |
| Personal care products | 0.82 | 11.62 | 111.96 |
| Personal care services | 0.56 | 7.90 | 83.02 |
| Reading | 0.40 | 5.70 | 169.37 |
| PEG Total |  | 100.00 |  |
8. Education and Communication |  | 4.05 |  |  | 103.58
| Education | 0.18 | 4.42 | 22.50 |
| Communications | 3.37 | 83.30 | 108.24 |
| Computers and computer services | 0.50 | 12.29 | 101.15 |
| PEG Total |  | 100.00 |  |
9. Miscellaneous |  | 12.28 |  |  | 108.45
| Tobacco products, etc. | 0.46 | 3.75 | 119.60 |
| Miscellaneous | 1.83 | 14.89 | 151.80 |
| Personal insurance and pensions | 9.99 | 81.35 | 100.00 |
| PEG Total |  | 100.00 |  |
Overall Price Index | MEG Total | 100.00 |  |  | 109.03
Plus Adjustment Factor |  |  |  |  | 9.00
Index Plus Adjustment Factor |  |  |  |  | 118.03

Anchorage results: Major expenditure group (MEG) | Anchorage results: Primary expenditure group (PEG) | Relative to: MEG weight (percent) | Relative to: PEG weight (percent) | Relative to: DC PEG index | Relative to: MEG indes | Kodiak relative to: Anchorage: PEG index* | Kodiak relative to: Anchorage: MEG index* | Kodiak relative to: DC: MEG index
REST OF THE STATE OF ALASKA
1. Food |  | 12.26 |  |  | 114.58 |  | 145.69 | 166.94
| Cereals and bakery products | 0.93 | 7.60 | 117.91 |  |  |  |
| Meats, poultry, fish, and eggs | 1.40 | 11.40 | 108.37 |  |  |  |
| Dairy products | 0.64 | 5.24 | 127.58 |  |  |  |
| Fruits and vegetables | 0.71 | 5.79 | 169.90 |  |  |  |
| Processed foods | 1.48 | 12.04 | 113.79 |  |  |  |
| Other food at home | 0.37 | 3.05 | 115.41 |  |  |  |
| Nonalcoholic beverages | 0.47 | 3.85 | 142.08 |  |  |  |
| Food away from home | 5.40 | 44.02 | 104.21 |  |  |  |
| Alcoholic beverages | 0.86 | 7.01 | 116.68 |  |  |  |
| PEG Total |  | 100.00 |  |  |  |  |
2. Shelter and Utilities |  | 33.38 |  |  | 102.42 |  | 105.04 | 107.58
| Shelter | 29.66 | 88.85 | 90.65 |  | 105.67 |  |
| Energy utilities | 3.04 | 9.11 | 212.43 |  | 100.00 |  |
| Water and other public services | 0.68 | 2.04 | 118.15 |  | 100.00 |  |
| PEG Total |  | 100.00% |  |  |  |  |
3. Household Furnishings and Supplies |  | 6.05 |  |  | 105.32 |  | 134.18 | 141.32
| Household operations | 1.52 | 25.20 | 102.92 |  | 100.00 |  |
| Housekeeping supplies | 1.05 | 17.31 | 103.97 |  | 145.69 |  |
Textiles and area rugs | 0.29 | 4.76 | 102.25 |  | 145.69 |  |  |
Furniture | 1.15 | 18.94 | 104.57 |  | 145.69 |  |  |
Major appliances | 0.38 | 6.24 | 110.38 |  | 145.69 |  |  |
Small appliances, misc. housewares | 0.20 | 3.24 | 114.16 |  | 145.69 |  |  |
Misc. household equipment | 1.47 | 24.30 | 107.47 |  | 145.69 |  |  |
| PEG Total |  | 100.00 |  |  |  |  |
4. Apparel and Services |  | 3.99 |  |  | 109.63 |  | 145.69 | 159.73
| Men and boys | 0.90 | 22.43 | 118.23 |  |  |  |
| Women and girls | 1.58 | 39.55 | 112.12 |  |  |  |
| Children under 2 | 0.18 | 4.60 | 90.70 |  |  |  |
| Footwear | 0.67 | 16.75 | 98.83 |  |  |  |
| Other apparel products and services | 0.67 | 16.68 | 108.24 |  |  |  |
| PEG Total |  | 100.00 |  |  |  |  |
5. Transportation |  | 16.31 |  |  | 112.30 |  | 125.94 | 141.44
| Motor vehicle costs | 8.56 | 52.47 | 102.17 |  | 145.69 |  |
| Gasoline and motor oil | 2.86 | 17.56 | 107.36 |  | 111.19 |  |
| Maintenance and repairs | 1.68 | 10.31 | 101.97 |  | 100.00 |  |
| Vehicle insurance | 1.78 | 10.91 | 135.96 |  | 100.00 |  |
| Public transportation | 1.43 | 8.75 | 165.59 |  | 100.00 |  |
| PEG Total |  | 100.00 |  |  |  |  |
6. Medical |  | 4.74 |  |  | 111.51 |  | 108.92 | 121.45
| Health insurance | 2.27 | 47.95 | 113.65 |  | 100.00 |  |
| Medical services | 1.54 | 32.53 | 118.98 |  | 100.00 |  |
| Drugs and medical supplies | 0.92 | 19.52 | 93.78 |  | 145.69 |  |
| PEG Total |  | 100.00 |  |  |  |  |
7. Recreation |  | 7.00 |  |  | 97.64 |  | 132.59 | 129.46
| Fees and admissions | 1.45 | 20.77 | 92.96 |  | 100.00 |  |
| Television, radios, etc. | 0.73 | 10.36 | 100.15 |  | 145.69 |  |
| Pets, toys, & playground equipment | 1.04 | 14.84 | 104.07 |  | 145.69 |  |
| Other entertainment supplies, etc. | 2.02 | 28.81 | 101.48 |  | 145.69 |  |
| Personal care products | 0.81 | 11.62 | 86.00 |  | 145.69 |  |
| Personal care services | 0.55 | 7.90 | 88.08 |  | 100.00 |  |
| Reading | 0.40 | 5.70 | 110.95 |  | 145.69 |  |
| PEG Total |  | 100.00 |  |  |  |  |
8. Education and Communication |  | 4.04 |  |  | 100.37 |  | 105.62 | 106.01
| Education | 0.18 | 4.42 | 29.67 |  | 100.00 |  |
| Communications | 3.36 | 83.29 | 104.60 |  | 100.00 |  |
| Computers and computer services | 0.50 | 12.29 | 97.09 |  | 145.69 |  |
| PEG Total |  | 100.00 |  |  |  |  |
9. Miscellaneous |  | 12.23 |  |  | 108.78 |  | 101.71 | 110.64
| Tobacco products, etc | 0.46 | 3.75 | 108.17 |  | 145.69 |  |
| Miscellaneous | 1.82 | 14.89 | 156.88 |  | 100.00 |  |
| Personal insurance and pensions | 9.95 | 81.36 | 100.00 |  | 100.00 |  |
| PEG Total |  | 100.00 |  |  |  |  |
Overall Price Index | MEG Total | 100.00 |  |  | 106.79 |  |  | 127.00
Plus Adjustment Factor |  |  |  |  | 7.00 |  |  | 9.00
Index Plus Adjustment Factor |  |  |  |  | 113.79 |  |  | 136.00
*Except for rental data and indexes set at 100, all data area from the University of Alaska Fairbanks, March 2003. Rental data are from Alaska Department of Labor and Workforce Development, 2002. Indexes set to 100 assume costs in Kodiak are equal to those in Anchorage.

[FR Doc. 05-15098 Filed 8-3-05; 8:45 am]

BILLING CODE 6325-39-P